DEPARTMENT OF TRANSPORTATION

Coast Guard

33 CFR Part 117

[CGD07-01-027]

Drawbridge Operation Regulations; Brorein Street Bridge, across the Hillsborough River, Tampa, FL

AGENCY: Coast Guard, DOT.

ACTION: Notice of temporary deviation from regulations.

SUMMARY: The Commander, Seventh Coast Guard District, has approved a temporary deviation from the regulations governing the operation of the Brorein Street Bridge across the Hillsborough River, mile 0.16, Tampa, Florida. This deviation allows the drawbridge to remain closed to navigation for five days. This temporary deviation is required to allow the bridge owner to safely complete repairs to the bridge.

DATES: This deviation is effective from April 30, 2001 to May 4, 2001.

FOR FURTHER INFORMATION CONTACT: Mr. Barry Dragon, Chief, Operations Section, Seventh Coast Guard District, Bridge Section at (305) 415-6743.

SUPPLEMENTARY INFORMATION: The Brorein Street Bridge across the Hillsborough River at Tampa, has a vertical clearance of 15 feet above mean high water (MHW) measured at the fenders in the closed position with a horizontal clearance of 80 feet. On March 23, 2001, Acutec, Inc., acting as an agent for the drawbridge owner, requested a deviation from the current operating regulation in 33 CFR 117.291(a) which requires the drawbridge to open on signal if at least two hours notice is given. This temporary deviation was requested to allow the bridge owner to safely disassemble the span lock system in a critical time sensitive manner.

The District Commander has granted a temporary deviation from the operating requirements listed in 33 CFR 117.291(a) for the purpose of repair completion of the drawbridge. Under this deviation, the Brorein Street Bridge need not open from 7 a.m. April 30, 2001 until 12 p.m. May 4, 2001.

Dated: April 4, 2001.
Greg E. Shapley,
Chief, Bridge Administration, Seventh Coast Guard District.

[FR Doc. 01-9711 Filed 4-18-01; 8:45 am]

BILLING CODE 4910-15-P